ENVIRONMENTAL PROTECTION AGENCY

[FRL-7142-3]

Agency Information Collection Activities: Submission for OMB Review; Comment Request; New Source Performance Standards for Municipal Waste Combustors

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: New Source Performance Standards for Municipal Waste Combustors Subpart Ea and Subpart Eb, OMB 2060-0210, expires March 31, 2002. The ICR describes the nature of the information collection and its expected burden and cost; where appropriate, it includes the actual data collection instrument.

DATES: Comments must be submitted on or before March 14, 2002.

ADDRESSES: Send comments, referencing EPA ICR No. 1506.09 and OMB Control No. 2060-0210, to the following addresses: Susan Auby, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by e-mail at auby.susan@epamail.epa.gov, or download off the Internet at http://www.epa.gov/icr and refer to EPA ICR No. 1506.09. For technical questions about the ICR contact Jonathan Binder at (202) 564-2516 or binder.jonathan@epa.gov with the Office of Compliance.

SUPPLEMENTARY INFORMATION: Title: New Source Performance Standards for Municipal Waste Combustors Subpart Ea and Subpart Eb, OMB 2060-0210; EPA ICR No. 1506.09; expiring March 31, 2002. This is a request for extension of a currently approved collection.

Abstract: Owners or operators of the affected facilities described must make one-time-only notifications and reports and must keep records as required of all facilities subject to NSPS requirements. Owners or operators are also required to maintain records of the occurrence and duration of any startup, shutdown, or malfunction in the operation of an affected facility, or any period during which the monitoring system is inoperative. Monitoring requirements specific to NSPS Subpart Ea and Subpart Eb provide information on the operation of the emissions control devices and compliance with the Municipal Waste Combustor (MWC) organics, MWC metals, MWC acid gases, good combustion practices, and nitrogen oxides. Owners and operators must submit semiannual and annual compliance reports. In addition, facilities subject to Subpart Eb are required to keep records of the weekly amount of carbon used for carbon injection and to calculate the estimated hourly carbon injection rate for hours of operation as a means of determining continuous compliance for mercury. Quarterly reports of excess emissions are required under Subpart Ea, while semi-annual reports of excess emissions are required under Subpart Eb. These notifications, reports, and records are essential in determining compliance; and are required, in general, of all sources subject to NSPS.

MWCs subject to Subpart Ea maintain a file of these measurements, and retain the file for at least 2 years. For MWCs subject to Subpart Eb all records are required to be maintained at the source for a period of 5 years. All reports are sent to the delegated State, Tribal, or Local authority. In the event that there is no such delegated authority, the reports are sent directly to the EPA Regional Office.

The required notifications are used to inform the Agency or delegated authority when a source becomes subject to the standard. The reviewing authority may then inspect the source to check if the pollution control devices are properly installed and operated, and the standard is being met. Performance test reports are needed as these are the Agency's record of a source's initial capability to comply with the emission standards, and serve as a record of the operating conditions under which compliance was achieved. The information generated by monitoring, recordkeeping and reporting requirements described in this ICR is used by the Agency to ensure that facilities affected by the NSPS continue to operate the control equipment and achieve continuous compliance with the regulation. The collection of this information is mandatory. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001, (66 FR 54514). No comments were received.

Burden Statement: The annual public reporting and record keeping burden for this collection of information is estimated to average 238 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of municipal waste combustors.

Estimated Number of Respondents: 8.

Frequency of Response: One-time, quarterly, semi-annual and annual.

Estimated Total Annual Hour Burden: 11,885 hours.

Estimated Total Annualized Capital, O&M Cost Burden: $132,000.

Send comments on the Agency's need for this information, the accuracy of the provided burden estimates, and any suggested methods for minimizing respondent burden, including through the use of automated collection techniques to the addresses listed above. Please refer to EPA ICR No. 1506.09 and OMB Control No. 2060-0210 in any correspondence.

Dated: January 31, 2002.
Oscar Morales,
Director, Collection Strategies Division.

[FR Doc. 02-3359 Filed 2-11-02; 8:45 am]

BILLING CODE 6560-50-P